OFFICE OF SPECIAL COUNSEL

Notice for Public Comment: Information Collection Request

AGENCY: U.S. Office of Special Counsel (OSC).

ACTION: Notice of request for public comment.

SUMMARY: In accordance with the Paperwork Reduction Act of 1995, the U.S. Office of Special Counsel is seeking public comment on an extension of a currently approved information collection activity for its Alternative Dispute Resolution (ADR) Program. The ADR Survey is distributed to participants following the conclusion of their ADR process and is used to assess program effectiveness and identify areas for improvement. The survey gathers feedback from mediation participants to help OSC improve the ADR process. Participation in the survey is voluntary, and responses are submitted anonymously.

DATES: Written comments must be received on June 9, 2025.

ADDRESSES: You may submit comments by any of the following methods:

• Mail: Barbara Wheeler Jones, U.S. Office of Special Counsel, 1730 M Street NW, Suite 218, Washington, DC 20036.

• Email: frliaison@osc.gov.

FOR FURTHER INFORMATION CONTACT: Susan Ullman, Acting Associate Special Counsel, at (202) 804-7000 or via email at frliaison@osc.gov.

Dated: April 4, 2025.
Barbara Wheeler Jones,
Chief, Case Review Division, U.S. Office of Special Counsel.

[FR Doc. 2025-06106 Filed 4-8-25; 8:45 am]

BILLING CODE 7405-01-P